OFFICE OF PERSONNEL MANAGEMENT

5 CFR Part 532

RIN 3206-AJ01

Prevailing Rate Systems; Abolishment of the Lebanon, PA, Nonappropriated Fund Wage Area

AGENCY: Office of Personnel Management.

ACTION: Interim rule with request for comments.

SUMMARY: The Office of Personnel Management is issuing an interim rule that will abolish the Lebanon, PA, nonappropriated fund (NAF) Federal Wage System (FWS) wage area, redefine Lebanon County, PA, to the York, PA, NAF FWS wage area, and remove Columbia County, PA, as part of an NAF wage area. The abolishment of the Lebanon, PA, wage area is necessary because of the downsizing at the Lebanon, PA, wage area's host installation, Fort Indiantown Gap. This downsizing left the Department of Defense without an installation in the survey area capable of hosting local wage surveys in the wage area. In addition, there are no longer any NAF FWS employees stationed in Columbia County, PA.

DATES: Effective date: This interim rule is effective on February 29, 2000. Applicability date: FWS employees remaining in Lebanon County, PA, will be transferred to the York, PA, NAF wage area schedule on the first day of the first applicable pay period beginning on or after March 2, 2000. Comments must be received by March 30, 2000.

ADDRESSES: Send or deliver comments to Donald J. Winstead, Assistant Director for Compensation Administration, Workforce Compensation and Performance Service, Office of Personnel Management, Room 7H31, 1900 E Street NW., Washington, DC 20415-8200, or FAX: (202) 606-4264.

FOR FURTHER INFORMATION CONTACT: Jennifer Hopkins by phone at (202) 606-2848, by FAX at (202) 606-0824, or by email at jdhopkin@opm.gov.

SUPPLEMENTARY INFORMATION: The Lebanon, PA, nonappropriated fund (NAF) Federal Wage System (FWS) wage area is presently composed of one survey county, Lebanon County, and one area of application county, Columbia County, PA. Under section 532.219(b) of title 5, Code of Federal Regulations, NAF wage areas are established when there are a minimum of 26 NAF wage employees in the survey area, the local activity has the capability to host annual local wage surveys, and there are within the survey area a minimum of 1,800 private enterprise employees in establishments within survey specifications. There are approximately 22 NAF FWS employees stationed in Lebanon County. Downsizing at the Lebanon, PA, wage area's host activity, Fort Indiantown Gap, left the Department of Defense (DOD) without an activity in the survey area with the capability to conduct local NAF wage surveys in the wage area. DOD recommended that the Office of Personnel Management (OPM) abolish the Lebanon, PA, NAF wage area, redefine Lebanon County, PA, as an area of application county to the York, PA, NAF wage area, and remove Columbia County, PA, as part of an NAF wage area.

Under section 5343(a)(1)(B)(i) of title 5, United States Code, NAF wage areas “shall not extend beyond the immediate locality in which the particular prevailing rate employees are employed.” There are no longer any NAF FWS employees stationed in Columbia County, PA. Therefore, Columbia County, PA, should not be defined as part of an NAF wage area. However, Lebanon County, PA, continues to have NAF FWS employment in the county and needs to be defined to an NAF wage area. Therefore, the York, PA, NAF wage area will be composed of one survey county, York County, PA, and one area of application county, Lebanon County, PA.

When defining NAF wage areas, OPM evaluates several factors under 5 CFR 532.219. OPM considers the following criteria when defining NAF wage area boundaries:

(i) Proximity of largest activity in each county;

(ii) Transportation facilities and commuting patterns; and

(iii) Similarities of the counties in:

(A) Overall population;

(B) Private employment in major industry categories; and

(C) Kinds and sizes of private industrial establishments.

A review of these criteria produced mixed findings. The closest major Federal installation to Fort Indiantown Gap is the Defense Distribution Center in York, PA. Fort Indiantown Gap is approximately 42 km (26 miles) from the Defense Distribution Center. Commuting patterns indicate that approximately 2 percent of the Lebanon County, PA, resident workforce commutes to Cumberland County, PA, while less than 1 percent commutes to York County, PA. Transportation facilities consist of major Interstate and State highways and do not favor one county more than another. Also, a review of the similarities of the counties in terms of overall population, employment, and kinds and sizes of industrial establishments revealed that Lebanon County is most similar to Frederick County, MD.

Based on an analysis of these regulatory criteria, OPM finds that Lebanon County should be defined to the York, PA, NAF wage area. OPM proposes to abolish the Lebanon, PA, NAF FWS wage area, redefine Lebanon County as an area of application county to the York, PA, NAF FWS wage area, and remove Columbia County, PA, as part of an NAF wage area. FWS employees remaining in Lebanon County will be transferred to the York, PA, wage area schedule on the first day of the first applicable pay period beginning on or after March 2, 2000. The Federal Prevailing Rate Advisory Committee, the national labor-management committee responsible for advising OPM on matters concerning the pay of FWS employees, has reviewed and concurred by consensus with these changes.

Waiver of Notice of Proposed Rulemaking

Pursuant to section 553(b)(3)(B) of title 5, United States Code, I find that good cause exists for waiving the general notice of proposed rulemaking. Also, pursuant to 5 U.S.C. 553(d)(3), I find that good cause exists for making this rule effective in less than 30 days. The notice is being waived and the regulation is being made effective in less than 30 days because of the need to transfer the remaining NAF FWS employees in Lebanon County to a continuing wage area as soon as possible.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

U.S. Office of Personnel Management.
Janice R. Lachance,
Director.

Accordingly, the Office of Personnel Management proposes to amend 5 CFR part 532 as follows:

PART 532—PREVAILING RATE SYSTEMS

1. The authority citation for part 532 continues to read as follows:

Authority: 5 U.S.C. 5343, 5346; § 532.707 also issued under 5 U.S.C. 552.

2. Appendix B to subpart B of part 532 is amended for the State of Pennsylvania by removing the entry for “Lebanon”.

3. Appendix D to subpart B is amended by removing the wage area listing for Lebanon, Pennsylvania, and revising the wage area listing for York, Pennsylvania, to read as follows:

Appendix D to Subpart B of Part 532—Nonappropriated Fund Wage and Survey Areas

* * * * *
PENNSYLVANIA
* * * * *
YORK
Survey Area
Pennsylvania: York
Area of Application. Survey area plus:
Pennsylvania: Lebanon

[FR Doc. 00-4689 Filed 2-28-00; 8:45 am]

BILLING CODE 6325-01-P